DEPARTMENT OF COMMERCE

National Oceanic and Atmospheric Administration

[I.D. 022900B]

Southwest Region Logbook Family of Forms; Proposed Information Collection; Request for Comments

AGENCY: National Marine Fisheries Service (NMFS), National Oceanic and Atmospheric Administration (NOAA), Commerce.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 2, 2000.

ADDRESSES: Direct all written comments to Linda Engelmeier, Departmental Forms Clearance Officer, Department of Commerce, Room 5027, 14th and Constitution Avenue NW, Washington DC 20230 (or via the Internet at LEngelme@doc.gov).

FOR FURTHER INFORMATION CONTACT: Requests for additional information or copies of the information collection instrument(s) and instructions should be directed to Mr. Alvin Katekaru, Pacific Islands Area Office, Southwest Region, NMFS, 1601 Kapiolani Blvd., Honolulu HI 96814-4700; telephone 808-973-2935 ext. 207.

SUPPLEMENTARY INFORMATION:

I. Abstract

Federal reporting requirements are established for four fisheries (pelagics, crustaceans, bottomfish, and precious corals) in the western Pacific region managed under the Magnuson-Stevens Fishery Conservation and Management Act. This information collection covers the information that must be provided to NMFS to meet these reporting requirements, which include fishing logbooks, notifications of intended vessel departure and return times and other actions, experimental fishing permit reports, and transshipment and sales reports. These reports are necessary to provide information to evaluate the effects of fishing on the stocks and to assess the need for changes in management to ensure that overfishing will be prevented and the optimum yield from the fisheries will be obtained.

II. Method of Collection

Typically, the holder of a permit for the fisheries is provided with a copy of any logbook or other reporting forms and with instructions for making any required reports. In many cases, logbooks are collected from permit holders at the docks when the vessel returns from a trip. Other reports are collected by phone or are received through regular mail. The option of electronic reporting is provided in the Northwestern Hawaiian Islands Crustaceans Fishery and the potential for electronic reporting is being investigated for other fisheries.

III. Data

OMB Number: 0648-0214.

Form Number: None.

Type of Review: Regular submission.

Affected Public: Business or other for-profit organizations.

Estimated Number of Respondents: 174.

Estimated Time Per Response: 5 minutes for notifications; 5 minutes for sales reports, pre-offloading reports, and in-season catch reports in the crustacean fishery; 3 minutes per page for logbook entries in the crustacean fishery; 5 minutes per day for logbook entries in the precious coral and western Pacific pelagic fisheries; 5 minutes for protected species interaction reports in the western Pacific bottomfish fishery; 15 minutes for sales reports in the precious coral fishery; 1 hour for observer placement information in the longline fishery for western Pacific pelagics; 1 hour for requests for exemptions to area closures in the western Pacific pelagic fishery; 4 hours for claims for lost fishing time due to sick observers on longline vessels in the western Pacific pelagic fishery; and 4 hours for experimental fishing reports.

Estimated Total Annual Burden Hours: 1,130.

Estimated Total Annual Cost to Public: $5,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 25, 2000.
Linda Engelmeier,
Departmental Forms Clearance Officer, Office of the Chief Information Officer.

[FR Doc. 00-5223 Filed 3-2-00; 8:45 am]

BILLING CODE 3510-22-F